DEPARTMENT OF TRANSPORTATION

Federal Transit Administration

Alternatives Analysis/Draft Environmental Impact Statement (AA/DEIS) for Transit Bridge Study in Broward County, Florida.

AGENCY: Federal Transit Administration, DOT.

ACTION: Notice of Intent to prepare a Draft Environmental Impact Statement.

SUMMARY: The Federal Transit Administration (FTA) (the Federal lead agency) and the Broward County Metropolitan Planning Organization (BCMPO) (the local lead agency) intend to prepare an Alternatives Analysis/ Draft Environmental Impact Statement (AA/DEIS) for the Transit Bridge Study in Broward County, Florida. The AA/DEIS is being prepared in conformance with the National Environmental Policy Act (NEPA) and will also address the requirements of other federal and state environmental laws. The AA/DEIS will address the social, economic and environmental effects of a limited number of transportation improvements identified in the “Scoping Process” which will be undertaken as part of this study. The work being performed also satisfy the FTA's alternatives analysis requirements and guidelines. BCMPO will perform this effort in coordination with the following agencies: the Broward County Department of Planning and Environmental Protection, the Broward County Mass Transit Division, the Florida Department of Transportation, the City of Hollywood, the Miami-Dade Transit Agency, and the Metropolitan Planning Organization for the Miami Urbanized Area.

The AA/DEIS will evaluate transportation improvements in a series of alternate corridors between Pro-Player Stadium in northern Miami-Dade County and the Hollywood Tri-Rail Station (Hollywood Boulevard at I-95). The EIS will also evaluate a No-Build Alternative and Transportation Systems Management alternative. In addition, reasonable alternatives suggested during the scoping process will be considered.

Scoping will be accomplished through correspondence with interested persons, organizations, and federal, state and local agencies, as well as through public meetings. See SUPPLEMENTARY INFORMATION below for details.

DATES: Comment Due Date: Written comments on the scope of alternatives and impacts to be considered should be sent to Broward County MPO by October 27, 2000. See ADDRESSES below. One Public Scoping Meeting and one Agency Scoping Meeting will be held on the following dates and times: Agency Scoping Meeting—September 21, 2000 from 10:00 to noon; Public Scoping Meeting—September 26, 2000 from 6:00 to 8:00 p.m. See ADDRESSES below.

ADDRESSES: Written comments should be sent to Mr. Mario Aispuro, Associate Planner, Broward County Metropolitan Planning Organization, 115 South Andrews Avenue, Fort Lauderdale, Florida, 33301. Phone (954) 357-6645.

The Scoping meetings will be held at the following locations:

1. September 21, 2000 from 10:00 a.m. to noon. South Florida Regional Planning Council, 3440 Hollywood Boulevard, Hollywood, Florida 33021.

2. September 26, 2000 from 6:00 to 8:00 p.m., South Regional/Broward Community College Library, 7300 Pines Boulevard, Pembroke Pines, Florida 33024.

Directions to meeting sites and information about special accommodation (Spanish translation, signing for hearing impaired, wheelchair access, etc.) are available. Contact Ms. Sheryl Dickey at Dickey Consulting Services , P.O. Box 892, Fort Lauderdale, Florida 33302. Phone (954) 467-6822.

FOR FURTHER INFORMATION CONTACT: Ms. Elizabeth Martin, Community Planner, Federal Transit Administration Region 4. Phone (404) 562-3500.

SUPPLEMENTARY INFORMATION:

I. Scoping

FTA and Broward County MPO invite interested individuals, organizations, businesses, and federal, state and local agencies to participate in defining the alternatives to be evaluated and identifying any significant social, economic, or environmental issues related to the alternatives. Comments on the appropriateness of the alternatives and impact issues are encouraged. Specific suggestions on additional alternatives to be examined and issues to be addressed are welcome and will be considered in the development of the final study scope. Comments may be made orally at the meetings or in writing prior to October 27, 2000.

Broward County MPO representatives will be present at the scoping meetings to describe the corridor alternatives, answer any questions, and receive comments. Additional opportunities for public participation will be provided throughout the AA/DEIS preparation to review findings and results and to solicit comments. Interested persons will be notified of project progress through ongoing community information distributed to the project mailing list that will include all scoping participants.

Additional background information on the need for the project, the AA/DEIS process, alternatives, and impact issues to be addressed by the AA/DEIS is contained in a document entitled “Project Scoping.” Copies of the document will be distributed to affected federal, state and local agencies. The document will also be available at the Scoping Meetings. Others may request the document from Ms. Sheryl Dickey. See ADDRESSES above.

II. Description of Study Area and Project Need

The study area includes a portion of Broward County and northern Miami-Dade County. It extends approximately 8.5 miles between NW 27th Avenue in the vicinity of Calder Race Track/Pro Player Stadium (the northern terminus of the Miami-Dade North Transit Corridor) and the Hollywood Tri-Rail station at Hollywood Boulevard and I-95. The area is currently served by Broward County Transit and Miami-Dade Transit bus service. There is no existing rail rapid transit or commuter service in the study area.

The study area includes an area of increasing residential and employment density. Availability of right-of-way in the study area is constrained. Travel demand is expected to increase between Broward and Miami-Dade Counties in the future. The capacity of the roadway system, particularly on US 441/SR 7, is already exceeded.

In response to the study area needs, Broward County MPO and the Department of Planning and Environmental Protection conducted the University Drive Transit Corridor Study. The results of the University Drive Transit Corridor Study completed in May 1996 and a number of subsequent initiatives at the MPO level during 1997 and 1998 concluded with the identification of the Transit Bridge corridor end points (Calder Race Track/Pro Player Stadium along NW 27th Avenue on the south and the Hollywood Tri-Rail Station at I-95/Hollywood Boulevard on the north). A suggested alignment includes the use of the Florida Turnpike right-of-way. The transit improvements are intended to increase the capacity of the transportation network, improve accessibility and mobility, diversify transportation choices, and help achieve regional air quality goals by providing alternatives to the single-occupant vehicle and by reducing vehicle miles traveled.

III. Alternatives

The transportation alternatives proposed for consideration in this project include:

1. No-Build Alternative, which involves no change to transportation services or facilities in the Corridor beyond already committed projects;

2. A Transportation System Management Alternative, which focuses on operational and low to medium cost capital improvements to bus transit routes and services in the project area;

3. Fixed Guideway Alternatives, which include dedicated busway and rail alternatives employing a combination of existing highways, streets, and rail rights-of-way. A range of specific alignments will be considered.

IV. Potential Impacts for Analysis

The FTA and Broward County MPO intend to evaluate significant social, environmental, and economic impacts of the alternatives analyzed in the AA/DEIS. Primary factors to be addressed include: land use, economic development, traffic and parking, coordination with ongoing transportation projects, grade crossing safety, noise and vibration, community impacts, environmental justice, historic/archaeological sites, water quality, air quality, contaminated materials, and capital and operating costs. Impacts on other factors including aesthetics, parklands, ecosystems, threatened and endangered species, and energy will also be assessed. Other potential impact issues may be added as a result of scoping and agency coordination efforts. Mitigation measures will be identified for significant environmental impacts.

The proposed impact assessment and evaluation will take into account both positive and negative effects, direct and indirect impacts, short-term (construction) and long-term impacts, and cumulative effects.

V. FTA Procedures

In accordance with the federal transportation planning regulations (23 CFR Part 450) and the federal environmental impact regulations and related procedures (23 CFR 771), the AA/DEIS will evaluate reasonable alternatives, assess the potential impacts associated with reasonable alternatives, and provide the public with the opportunity to comment. The AA/DEIS will be prepared in a manner that is consistent with the 1996 University Drive Corridor Study, which considered a fixed-transit connection between Miami-Dade and Broward Counties. The AA/DEIS will be circulated to solicit public and agency comments on the proposed action. Based on the comments received on the Draft AA/DEIS, Broward County MPO will prepare the Final DEIS. Opportunity for public comment will be provided throughout the corridor planning process.

Issued on September 18, 2000.
Jerry Franklin,
Regional Administrator, Federal Transit Administration.

[FR Doc. 00-24322 Filed 9-20-00; 8:45 am]

BILLING CODE 4910-57-P